DEPARTMENT OF DEFENSE

Office of the Secretary

Missile Defense Advisory Committee (MDAC); Notice of Closed Meeting

AGENCY: DoD.

ACTION: Notice of closed meeting.

SUMMARY: Under the provisions of the Federal Advisory Committee Act of 1972 (5 U.S.C., Appendix, as amended) and the Sunshine in the Government Act of 1976 (5 U.S.C. 552b, as amended) the Department of Defense (DoD) announces the following Federal Advisory Committee meeting.

Name of Committee: Missile Defense Advisory Committee (MDAC).

Dates of Meeting: October 11-12, 2007.

Location: 7100 Defense Pentagon, Washington, DC 20301-7100.

Time: 8 a.m. to 5 p.m.

Purpose of Meeting: At this meeting, the Committee will receive classified briefings by MDA senior staff, Program Managers, senior DoD leaders, representatives from industry and the Services on the appropriate role for MDA in Cruise Missile Defense (CMD).

The mission of the MDAC is to provide the Department of Defense advice on all matters relating to missile defense, including system development, technology, program maturity and readiness of configurations of the Ballistic Missile Defense System to enter the acquisition process.

Proposed Agenda: Topics tentatively scheduled for discussion includes, but is not limited to administrative work; responsibilities for CMD development; current MDA CMD capabilities and responsibilities; review of governing directives; and CMD capabilities development programs for the Services.

FOR FURTHER INFORMATION CONTACT: COL Mark Zamberlan, Designated Federal Official (DFO) at mdac@mda.mil, phone/voice mail (703) 695-6438, or mail at 7100 Defense Pentagon, Washington, DC 20301-7100.

Pursuant to 41 CFR 102-3.105(j) and 102-3.140, the public or interested organizations may submit written statements to the membership of the MDAC in response to the stated agenda of the planned meeting or at any time. Written statements pertaining to a specific topic being discussed at a planned meeting of the MDAC must be submitted to the MDAC's DFO no later than seven business days prior to the meeting in question. Written statements that so not pertain to a scheduled meeting of the MDAC may be submitted at any time. All written statements should be forwarded to the DFO at the aforementioned information contact and address in the following formats: one hard copy with original signature and one electronic copy via e-mail (acceptable file formats: Adobe Acrobat PDF, MS Word or MS PowerPoint). The DFO will review all submitted written statements and provide copies to all the committee members.

SUPPLEMENTARY INFORMATION: Pursuant to 5 U.S.C. 552b, as amended, and 41 CFR 102-3.155, the Department of Defense has determined that the meeting shall be closed to the public. The Under Secretary of Defense (Acquisition, Logistics and Technology), in consultation with the Office of the Department of Defense General Counsel, has determined in writing that the public interest requires that all sessions of this meeting be closed to the public because they will be concerned with matters listed in section 552b(c)(1) of Title 5, United States Code.

Dated: August 20, 2007.
L.M. Bynum,
OSD Federal Register Liaison Office, Department of Defense.

[FR Doc. 07-4143 Filed 8-21-07; 11:33 am]

BILLING CODE 5001-06-M